DEPARTMENT OF HOUSING AND URBAN DEVELOPMENT

[Docket No. FR-7080-N-28]

30-Day Notice of Proposed Information Collection: Public Housing Agency (PHA) 5-Year and Annual Plan, OMB Control No.: 2577-0226

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: July 22, 2024.

ADDRESSES: Interested persons are invited to submit comments regarding this proposal.

Written comments and recommendations for the proposed information collection can be sent within 30 days of publication of this notice to www.reginfo.gov/public/do/PRAMain. Find this particular information collection by selecting “Currently under 30-day Review—Open for Public Comments” or by using the search function. Interested persons are also invited to submit comments regarding this proposal by name and/or OMB Control Number and should be sent to: Colette Pollard, Reports Management Officer, REE, Department of Housing and Urban Development, 451 7th Street SW, Room 8210, Washington, DC 20410-5000; telephone (202) 402-3400 (this is not a toll-free number) or email: PaperworkReductionActOffice@hud.gov.

FOR FURTHER INFORMATION CONTACT: Colette Pollard, Reports Management Officer, REE, Department of Housing and Urban Development, 7th Street SW, Room 8210, Washington, DC 20410; email Colette Pollard at Colette.Pollard@hud.gov or telephone (202) 402-3400. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A.

The Federal Register notice that solicited public comment on the information collection for a period of 60 days was published on December 14, 2023 at 88 FR 86667.

A. Overview of Information Collection

Title of Proposal: Public Housing Agency (PHA) 5-Year and Annual Plan.

OMB Control Number: 2577-0226.

Type of Request: Reinstatement, with change, of previously approved collection for which approval has expired.

Form Number(s): HUD-50075-5Y, HUD-50075-HCV, HUD-50075-HP, HUD-50075-MTW, HUD-50075-SM, HUD-50075-ST, HUD-50077-CR, HUD-50077-CRT-SM, HUD-50077-ST-HCV-HP and HUD-50077-SL.

Description of the need for the information and proposed use: The Public Housing Agency (PHA) Plan was created by section 5A of the United States Housing Act of 1937 (42 U.S.C. 1437c-1). There are two different PHA Plans: The Five-Year Plan and the Annual Plan. The Five-Year Plan describes the agency's mission, long-range goals, and objectives for achieving its mission over a five-year period. The Annual PHA Plan is a comprehensive guide to PHA policies, programs, operations, and strategies for meeting local housing needs and goals. This revision addresses necessary updates to all the forms and the automation of all the PHA Plan forms including the Moving to Work (MTW) Supplement for PHAs that joined the MTW Demonstration under the 2016 Appropriations Act (i.e., MTW Expansion).

PHA Plans are needed to inform the Department of Housing and Urban Development (HUD), residents, and the public of the PHA's mission and strategy for serving the needs of low income, very low-income, and extremely low-income families in the PHA's jurisdiction. This information helps provide accountability to the local community for how PHAs spend their funding and implement their policies. The PHA Plan submission also includes various certifications to confirm that PHAs will abide by all federal civil rights laws and that the PHA Plan is consistent with the applicable Consolidated Plan.

PHA plans also allow HUD to monitor the performance of programs and the performance of the public housing agencies that administer them. Since 2000, HUD has taken several steps to reduce the administrative burden of the PHA Plan submission including the use of streamlined plan submissions for certain PHA based on size and performance. For example, the Housing and Economic Reform Act (HERA) removed the requirement for qualified PHAs to submit an annual PHA Plan and to only submit the 5-year Plan. A “qualified PHA” is one that manages 550 or fewer public housing units and vouchers and is not labeled as a troubled public housing agency. Currently, qualified PHA's must only submit an annual certification to confirm that they are abiding by all federal civil rights laws.

In January 2021 HUD requested from OMB that the PHA Plan collection be reinstated with change. These changes included the addition of a new section to accommodate the anticipated fair housing planning requirements of the 2015 Affirmatively Furthering Fair Housing (AFFH) Rule and the introduction of the MTW Supplement. OMB approved the changes, reinstated the collections and HUD made the new templates available to PHAs on the HUD website as individual word processing files. After publication, HUD made subsequent minor changes to the forms and certifications to remove unnecessary sections, make minor edits and to account for updated or eliminated regulatory citations. Additionally, HUD took steps to automate the MTW supplement in the Housing Information Portal (HIP).

With this current proposed information collection, HUD intends to automate all PHA Plan templates and certifications. While the templates will be automated, the content and required elements will be mostly the same with a few modifications as needed to account for recent changes in regulations. Modifications to the collection include the following:

(1) HUD is adding an additional element to the HUD-50075-HCV form. The revised HUD-50075-HCV form will include an additional element requiring Section 8 only PHAs to report on their Project Based Voucher (PBV) activities. This template will be used by HCV-only PHA's that administer the Housing Choice Voucher (HCV) program which may also include PBV developments.

(2) HUD is adding an optional feature for PHA's to attach their written Admission and Continued Occupancy Policy (ACOP) or Administrative Plan documents to their Five-Year Plan and Annual Plan submissions. This will create a centralized database of all local PHA policies which currently can only be found at each individual PHA or on their websites.

(3) Section D of the PHA Plan Templates, meant to address the fair housing goals as was originally required by the 2015 Affirmatively Furthering Fair Housing (AFFH) rule, has been removed. This is due to the 2020 Preserving Neighborhood and Community Choice (PNCC) rule rescinding the 2015 AFFH rule which eliminated the requirement for HUD grantees to conduct fair housing planning. On June 10, 2021, HUD published an AFFH interim final rule (IFR) which does not restore the 2015 AFFH rule for HUD grantees to conduct fair housing planning only that grantees meaningfully certify that they are meeting the Fair Housing Act's AFFH obligation. The language in the HUD certifications have been updated to reflect this change.

(4) Additional edits have been made to the PHA Plan templates as required by the Housing Opportunity Through Modernization Act of 2016 (HOTMA)—Housing Choice Voucher (HCV) and Project-Based Voucher (PBV) Implementation final rule. These edits include the addition of Section B.5 HUD Form 50075-5Y for PHAs to report PBV activities as required by 24 CFR 903.6(c). The HOTMA-HCV rule also required citation updates to account for the redesignation of paragraph (r) of 24 CFR 903.7 as paragraph (s).

(5) Lastly, HUD will now strongly encourage complete electronic submission from all PHAs. Currently, PHA Plan templates are downloaded, edited, and submitted as email attachments which must then be individually uploaded, analyzed, and organized by HUD. Automating the PHA Plan forms will make the PHA Plan review process more efficient by streamlining the submission and review process thus reducing the administrative burden on both HUD and PHAs. HUD estimates that automating the PHA Plan form will reduce both the PHA and HUD administrative burden by approximately 25%. Electronic submission and collection of this information will also make future data and policy analysis feasible.

Overall, the burden hours associated with the collection is expected to decrease by 2,024 hours due to the automation of the PHA Plan templates. Additional time may be required in the first year to train PHAs on the system, however, because the Public Housing Portal is an existing HUD system that PHAs use and are familiar with, this burden is expected to reduce in subsequent years. Accordingly, the additional burden of the one-time training is not expected to exceed the time savings created by the system.

Finally, revisions were made to this collection to reflect adjustments in calculations based on the total number of current, active PHAs to date. Since the last approved information collection, the number of active public housing agencies has changed from approximately 3,780 to 3,763. The number of PHAs can fluctuate due to many factors, including but not limited to performance scoring, the merging of two or more PHAs or the termination of the public housing and/or voucher programs due to the Rental Assistance Demonstration (RAD).

Members of affected public: Public Housing Agencies, Developers.

Information collection | Number of respondents | Frequency of response | Responses per annum | Burden hour per response | Annual burden hours | Hourly cost per response * | Annual cost
Form HUD-50075-ST † | 796 | 1 | 796 | 5.64 | 4,489.44 | $26.62 | $119.508.89
Form HUD-50075-SM † | 202 | 1 | 202 | 2.67 | 539.74 | 26.62 | 14,367.99
Form HUD-50075-HP † | 152 | 1 | 152 | 5.26 | 799.52 | 26.62 | 21,283.22
Form HUD-50075-HCV † | 246 | 1 | 246 | 4.52 | 1,111.92 | 26.62 | 29,599.31
Form HUD-50075-MTW † | 100 | 1 | 100 | 6.50 | 650 | 26.62 | 17,303.00
Form HUD-50077-CR (Qualified PHAs) | 2,321 | 1 | 2,321 | 0.16 | 371.36 | 26.62 | 9,885.60
Form HUD-50075-5Y † | 3,763 | 1 | 3,763/5 | 1.23 (6.15/5) | 4,628.49 (23,142.45/5) | 26.62 | 123,210.40
Total | 3,763 | 1 | 3,763 | 25.98 | 12,590.47 | 26.62 | 335,158
* The hourly cost for response assumes a GS-9, Step 5 ($55,564), Executive Assistant, hourly rate is $26.62.
† Note: The rows representing the burden for each template/respondent type includes the burden of the relevant annual certification forms (HUD-50077-SL, HUD-50077-CR-SM & HUD-50077-ST-HCV-HP).

B. Solicitation of Public Comment

This notice is soliciting comments from members of the public and affected parties concerning the collection of information described in Section A on the following:

(1) Whether the proposed collection of information is necessary for the proper

performance of the functions of the agency, including whether the information will have

practical utility;

(2) The accuracy of the agency's estimate of the burden of the proposed collection of information;

(3) Ways to enhance the quality, utility, and clarity of the information to be collected; and

(4) Ways to minimize the burden of the collection of information on those who are to respond; including through the use of appropriate automated collection techniques or the forms of information technology, e.g., permitting electronic submission of responses.

(5) ways to minimize the burden of the collection of information on those who are to respond, including the use of automated collection techniques or other forms of information technology.

HUD encourages interested parties to submit comment in response to these questions.

C. Authority

Section 3507 of the Paperwork Reduction Act of 1995, 44 U.S.C. chapter 35.

Colette Pollard,
Department Reports Management Officer, Office of Policy Development and Research, Chief Data Officer.

[FR Doc. 2024-13582 Filed 6-20-24; 8:45 am]

BILLING CODE 4210-67-P